COMMISSION ON CIVIL RIGHTS

Agenda and Notice of Public Meeting of the Mississippi Advisory Committee

Notice is hereby given, pursuant to the provisions of the rules and regulations of the U.S. Commission on Civil Rights, that conference call of the Mississippi Advisory Committee to the Commission will begin at 10 a.m. and end at 11:30 a.m. on Wednesday, April 2, 2003. The purpose of the conference call is to discuss the Committee's project on state human relations legislation and plan future activities. The conference call is available to the public through the following call-in number: 1-800-473-8794, access code: 15708651. Any interested member of the public may call this number and listen to the meeting.

To ensure that the Commission secures an appropriate number of lines, persons are asked to register by contacting Farella E. Robinson of the Central Regional Office, 913-551-1400 (TDD 913-551-1414), by 4 p.m. on Tuesday, April 1, 2003.

The meeting will be conducted pursuant to the provisions of the rules and regulations of the Commission.

Dated at Washington, DC, March 4, 2002.
Ivy L. Davis,
Chief, Regional Programs Coordination Unit.

[FR Doc. 03-6737 Filed 3-19-03; 8:45 am]

BILLING CODE 6335-01-P